SMALL BUSINESS ADMINISTRATION

[Disaster Declaration #11008 and #11009]

Oklahoma Disaster Number OK-00013

AGENCY: U.S. Small Business Administration.

ACTION: Amendment 1.

SUMMARY: This is an amendment of the Presidential declaration of a major disaster for the State of Oklahoma (FEMA-1718-DR), dated 08/24/2007.

Incident: Severe Storms, Tornadoes, and Flooding.

Incident Period: 08/18/2007 and continuing through 09/12/2007.

Effective Date: 09/12/2007.

Physical Loan Application Deadline Date: 10/23/2007.

EIDL Loan Application Deadline Date: 05/26/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of Oklahoma, dated 08/24/2007 is hereby amended to establish the incident period for this disaster as beginning 08/18/2007 and continuing through 09/12/2007.

All other information in the original declaration remains unchanged.

(Catalog of Federal Domestic Assistance Numbers 59002 and 59008)

Roger B. Garland,
Acting Associate Administrator for Disaster Assistance.

[FR Doc. E7-18639 Filed 9-20-07; 8:45 am]

BILLING CODE 8025-01-P